DEPARTMENT OF THE INTERIOR

Bureau of Land Management

[WY-957-08-1420-BJ]

Notice of Filing of Plats of Survey, Wyoming

AGENCY: Bureau of Land Management, Interior.

ACTION: Notice of Filing of Plats of Survey, Wyoming.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management and U.S. Forest Service, and are necessary for the management of resources. The lands surveyed are:

The plat and field notes representing the metes and bounds survey of Lot 4, section 8, Township 18 North, Range 79 West, of the Sixth Principal Meridian, Wyoming, Group No. 794, was accepted July 23, 2008.

The plat and field notes representing the dependent resurvey of a portion of the Fifth Standard Parallel North, through Ranges 93 and 94 West, a portion of the east boundary, the subdivisional lines, and the subdivision of certain sections, Township 20 North, Range 94 West, Sixth Principal Meridian, Wyoming, Group No. 673, was accepted July 23, 2008.

The plat and field notes representing the dependent resurvey of a portion of the north boundary and subdivisional lines, the subdivision of section 4, and the metes and bounds survey of lots 5 and 6, section 4, Township 27 North, Range 103 West, of the Sixth Principal Meridian, Wyoming, Group No. 687, was accepted August 7, 2008.

The plat representing the entire record of the dependent resurvey of a portion of Tract 49, designed to restore the corners in their true locations according to the best available evidence, Township 52 North, Range 97 West, Sixth Principal Meridian, Wyoming, Group No. 769, was accepted August 25, 2008.

The plat and field notes representing the dependent resurvey of Tract 105, portions of Tracts 106 and 107, a portion of the subdivisional lines, and the subdivision of Tracts 105 and 107, Township 52 North, Range 96 West, Sixth Principal Meridian, Wyoming, Group No. 770, was accepted August 25, 2008.

The plat and field notes representing the dependent resurvey of the south, east and west boundaries, a portion of the north boundary, and the subdivisional lines, Township 54 North, Range 78 West, Sixth Principal Meridian, Wyoming, Group No. 767, was accepted September 16, 2008.

The plat and field notes representing the dependent resurvey of a portion of the Ninth Standard Parallel North through Range 110 West, portions of the east boundary and subdivisional lines, and the subdivision of section 1, Township 36 North, Range 111 West, of the Sixth Principal Meridian, Wyoming, Group No. 768, was accepted September 16, 2008.

Copies of the preceding described plats and field notes are available to the public at a cost of $1.10 per page.

Dated: September 17, 2008.
John P. Lee,
Chief Cadastral Surveyor, Division of Support Services.

[FR Doc. E8-22337 Filed 9-23-08; 8:45 am]

BILLING CODE 4310-22-P